ENVIRONMENTAL PROTECTION AGENCY

[EPA-HQ-OW-2005-0012; FRL-8273-4]

Agency Information Collection Activities; Submission to OMB for Review and Approval; Comment Request; Questionnaire for the Chlorine and Chlorinated Hydrocarbon Manufacturing Segments; EPA ICR No. 2214.01

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before February 26, 2007.

ADDRESSES: Submit your comments, referencing Docket ID No. EPA-HQ-OW-2005-0012, to (1) EPA online using www.regulations.gov (our preferred method), by e-mail to ow-docket@epa.gov, or by mail to: EPA Docket Center, Environmental Protection Agency, Water Docket, Mail Code: 4101T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Samantha Lewis, Office of Water, Engineering and Analysis Division, (4303T), Environmental Protection Agency, 1200 Pennsylvania Ave., NW., Washington, DC 20460; telephone number: 202-566-1058; fax number: 202-566-1053; e-mail address: Lewis.Samantha@epa.gov.

SUPPLEMENTARY INFORMATION: EPA has submitted the following ICR to OMB for review and approval according to the procedures prescribed in 5 CFR 1320.12. On April 18, 2006 (71 FR 19887), EPA sought comments on this ICR pursuant to 5 CFR 1320.8(d). EPA received 4 comments during the comment period, which are addressed in the ICR. Any additional comments on this ICR should be submitted to EPA and OMB within 30 days of this notice.

EPA has established a public docket for this ICR under Docket ID No. EPA-HQ-OW-2005-0012, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2422.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Questionnaire for the Chlorine and Chlorinated Hydrocarbon Manufacturing Segments.

ICR numbers: EPA ICR No. 2214.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The U.S. Environmental Protection Agency is conducting a census of facilities that manufacture chlorine and/or certain chlorinated hydrocarbons (CCH) as part of its effort to review the effluent limitations guidelines and standards for these operations. EPA is considering revision of the Organic Chemicals, Plastics and Synthetic Fibers Point Source Category regulations at 40 CFR Part 414 for facilities that manufacture ethylene dichloride, vinyl chloride monomer, polyvinyl chloride and other chlorinated hydrocarbons. EPA is also considering revision of the Inorganic Chemicals Point Source Category regulations at 40 CFR Part 415 for facilities that manufacture chlorine as well as chlorine manufacturers not regulated under 40 CFR Part 415. The questionnaire seeks information on (1) Technical data, including general facility information, manufacturing process information, wastewater treatment and characterization information, and information on sampling data; and (2) financial and economic data, including ownership information, facility/company information, and corporate parent financial information. The technical data will be used to determine the industry production rates, water use for processes, rates of wastewater generation, pollution prevention, and the practices of wastewater management, treatment, and disposal. The financial and economic data will be used to characterize the economic status of the industry and to estimate the possible economic impacts of wastewater regulations. This questionnaire will be sent to all identified facilities engaged in CCH production. Completion of this one-time questionnaire will be mandatory pursuant to Section 308 of the Clean Water Act.

Burden Statement: The annual public reporting and recordkeeping burden for this collection of information is estimated to average 435 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Facilities that manufacture chlorine and/or certain chlorinated hydrocarbons, including polyvinyl chloride.

Estimated Number of Respondents: 65.

Frequency of Response: One-time only.

Estimated Total Annual Hour Burden: 28,300.

Estimated Total Annual Cost: $1,082,000 includes $0 annualized capital expenditure and $3,810 Respondent O&M costs.

Dated: January 12, 2007.
Oscar Morales,
Director, Collection Strategies Division.

[FR Doc. E7-1096 Filed 1-24-07; 8:45 am]

BILLING CODE 6560-50-P